DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On October 6, 2021, OFAC determined that the property and interests in property subject to U.S. jurisdiction of the following persons are blocked under the relevant sanctions authority listed below.

Individuals

1. DIAZ DE LEON SAUCEDA, Cesar Enrique (a.k.a. “LOBITO”), Manzanillo, Colima, Mexico; DOB 12 Apr 1987; POB Monterrey, Nuevo Leon, Mexico; nationality Mexico; Gender Male; C.U.R.P. DISC870412HNLZCS03 (Mexico) (individual) [SDNTK]. Designated pursuant to section 805(b)(2) of the Foreign Narcotics Kingpin Designation Act (Kingpin Act), 21 U.S.C. 1904(b)(2), for materially assisting in, or providing financial or technological support for or to, or providing goods or services in support of, the international narcotics trafficking activities of, the CARTEL DE JALISCO NUEVA GENERACION (CJNG) [SDNTK].

2. JARQUIN JARQUIN, Aldrin Miguel (a.k.a. “CHAPARRITO”), Manzanillo, Colima, Mexico; DOB 18 Nov 1976; POB Nezahualcoyotl, Mexico, Mexico; nationality Mexico; Gender Male; C.U.R.P. JAJA761118HMCRRL06 (Mexico) (individual) [SDNTK]. Designated pursuant to section 805(b)(2) of the Kingpin Act, 21 U.S.C. 1904(b)(2), for materially assisting in, or providing financial or technological support for or to, or providing goods or services in support of, the international narcotics trafficking activities of, CJNG [SDNTK].

3. JARQUIN JARQUIN, Jose Jesus (a.k.a. “R32”), Manzanillo, Colima, Mexico; DOB 26 Jul 1984; POB Ixtlahuacan de los Membrillos, Jalisco, Mexico; nationality Mexico; Gender Male; C.U.R.P. JAJJ840726HJCRRS04 (Mexico) (individual) [SDNTK]. Designated pursuant to section 805(b)(2) of the Kingpin Act, 21 U.S.C. 1904(b)(2), for materially assisting in, or providing financial or technological support for or to, or providing goods or services in support of, the international narcotics trafficking activities of, CJNG [SDNTK].

4. ZAGAL ANTON, Fernando, Mexico; DOB 14 Oct 1982; POB Puerto Vallarta, Jalisco, Mexico; nationality Mexico; Gender Male; C.U.R.P. ZAAF821014HJCGNR04 (Mexico) (individual) [SDNTK]. Designated pursuant to section 805(b)(2) of the Kingpin Act, 21 U.S.C. 1904(b)(2), for materially assisting in, or providing financial or technological support for or to, or providing goods or services in support of, the international narcotics trafficking activities of, CJNG [SDNTK].

Dated: October 6, 2021.
Bradley T. Smith,
Acting Director, Office of Foreign Assets Control, U.S. Department of the Treasury.

[FR Doc. 2021-22116 Filed 10-8-21; 8:45 am]

BILLING CODE 4810-AL-P